DEPARTMENT OF ENERGY

Federal Energy Regulatory Commission

Combined Notice of Filings #1

May 1, 2008.

Take notice that the Commission received the following electric corporate filings:

Docket Numbers: EC08-83-000.

Applicants: Iberdrola Renewables, Inc., PPM Wind Energy LLC, Aeolus Wind Power IV LLC, Klondike Wind Power III LLC.

Description: Application for Order Under Section 203 of the FPA Authorizing Disposition of Jurisdictional Facilities, and Request for Waivers, Confidential Treatment of Transaction Document and 21-Day Comment Period.

Filed Date: 04/30/2008.

Accession Number: 20080430-5245.

Comment Date: 5 p.m. Eastern Time on Wednesday, May 21, 2008.

Take notice that the Commission received the following electric rate filings:

Docket Numbers: ER98-1466-005; ER00-814-006; ER00-2924-006; ER02-1638-005.

Applicants: Allegheny Power; Allegheny Energy Supply Company; Green Valley Hydro, LLC; Buchanan Generation, LLC.

Description: Allegheny Power submits a Supplemental Affidavit of Julie R Solomon re their combined triennial market power analysis submitted on 1/14/08.

Filed Date: 04/21/2008.

Accession Number: 20080430-0200.

Comment Date: 5 p.m. Eastern Time on Tuesday, May 6, 2008.

Docket Numbers: ER98-4421-008; ER98-4421-009; ER04-543-004; ER04-543-005; ER99-791-006; ER99-791-005; ER99-3677-007; ER99-3677-008; ER01-570-008; ER01-570-009; ER00-2187-003; ER99-806-005; ER99-806-006; ER00-2187-004.

Applicants: Consumers Energy Company; CMS Energy Resource Management Company; Grayling Generating Station L.P.; CMS Generation Michigan Power, L.L.C.; Dearborn Industrial Generation, L.L.C.; CMS Distributed Power, L.L.C.; Genesee Power Station, LP.

Description: Consumers Energy Company et al submit a notice of non-material change in status and Original Sheet 1 et al to FERC Electric Tariff, Third Revised Volume 8.

Filed Date: 04/23/2008.

Accession Number: 20080429-0073.

Comment Date: 5 p.m. Eastern Time on Wednesday, May 14, 2008.

Docket Numbers: ER05-1089-004; ER06-1027-001; EL05-136-002.

Applicants: Wisconsin Public Service Corporation.

Description: Algoma Group et al submits an amended Stipulation to the Stipulation filed on 9/20/07.

Filed Date: 04/24/2008.

Accession Number: 20080430-0164.

Comment Date: 5 p.m. Eastern Time on Thursday, May 8, 2008.

Docket Numbers: ER08-676-000.

Applicants: Winnebago Windpower LLC.

Description: Winnebago Windpower LLC requests to withdraw their application for order accepting initial tariff, providing for shortened comment period, waiving regulations, and granting blanket approvals which was filed on 3/17/08.

Filed Date: 04/28/2008.

Accession Number: 20080429-0207.

Comment Date: 5 p.m. Eastern Time on Monday, May 19, 2008.

Docket Numbers: ER08-765-001.

Applicants: KD Power Marketing Services, LLC.

Description: KD Power Marketing Services LLC submits an amended application for market-based rate authority.

Filed Date: 04/28/2008.

Accession Number: 20080430-0035.

Comment Date: 5 p.m. Eastern Time on Monday, May 19, 2008.

Docket Numbers: ER08-867-000.

Applicants: New York Independent System Operator, Inc.

Description: New York Independent System Operator, Inc submits an Agreement to Amend Joint Operating Agreement Among with PJM Interconnection, LLC etc.

Filed Date: 04/23/2008.

Accession Number: 20080428-0114.

Comment Date: 5 p.m. Eastern Time on Wednesday, May 14, 2008.

Docket Numbers: ER08-876-000.

Applicants: Wisconsin Public Service Corporation.

Description: Wisconsin Public Service Corporation submits an executed Back-Up Service Agreement with Eagle River Light and Water Commission designated as Rate Schedule FERC 82, effective 4/22/08.

Filed Date: 04/28/2008.

Accession Number: 20080430-0037.

Comment Date: 5 p.m. Eastern Time on Monday, May 19, 2008.

Docket Numbers: ER08-877-000.

Applicants: Southern California Edison Company.

Description: Southern California Edison Company submits a Notice of Cancellation of the Firm Transmission Service Agreement with the City of Vernon.

Filed Date: 04/28/2008.

Accession Number: 20080430-0038.

Comment Date: 5 p.m. Eastern Time on Monday, May 19, 2008.

Docket Numbers: ER08-878-000.

Applicants: Wisconsin Power and Light Company.

Description: Wisconsin Power and Light Power Company et al submits the proposed Balancing Area Operations Coordination Agreement designated as Rate Schedule FERC 500 etc, effective 6/27/08.

Filed Date: 04/28/2008.

Accession Number: 20080430-0036.

Comment Date: 5 p.m. Eastern Time on Monday, May 19, 2008.

Take notice that the Commission received the following open access transmission tariff filings:

Docket Numbers: OA08-112-000.

Applicants: Idaho Power Company.

Description: Idaho Power Co submits compliance filing proposing to amend its Open Access Transmission Tariff to include a methodology for distributing penalty revenues associated with Imbalance Penalties, Late Study Penalties etc.

Filed Date: 04/21/2008.

Accession Number: 20080424-0125.

Comment Date: 5 p.m. Eastern Time on Monday, May 12, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-10999 Filed 5-15-08; 8:45 am]

BILLING CODE 6717-01-P